DEPARTMENT OF TRANSPORTATION

Federal Motor Carrier Safety Administration

[Docket No. FMCSA-2015-0348]

Qualification of Drivers; Exemption Applications; Vision

AGENCY: Federal Motor Carrier Safety Administration (FMCSA), DOT.

ACTION: Notice of applications for exemptions; request for comments.

SUMMARY: FMCSA announces receipt of applications from 20 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before March 9, 2016. All comments will be investigated by FMCSA. The exemptions will be issued the day after the comment period closes.

ADDRESSES: You may submit comments bearing the Federal Docket Management System (FDMS) Docket No. FMCSA-2015-0348 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 20 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Lonnie D. Barber

Mr. Barber, 47, has had amblyopia in his left eye since childhood. The visual acuity in his right eye is 20/20, and in his left eye, 20/70. Following an examination in 2015, his ophthalmologist stated, “In my medical opinion, Mr. Barber's vision is sufficient to perform the driving tasks required to operate a commercial vehicle.”

Mr. Barber reported that he has driven straight trucks for 10 years, accumulating 14,000 miles. He holds an operator's license from North Carolina. His driving record for the last 3 years shows no crashes and no convictions for moving violations in a CMV.

Thomas M. Bowman

Mr. Bowman, 50, has had a retinal detachment in his right eye since 2011. The visual acuity in his right eye is no light perception, and in his left eye, 20/20. Following an examination in 2015, his ophthalmologist stated, “In my opinion, Mr. Bowman has sufficient vision to perform driving tasks required for a commercial vehicle.”

Mr. Bowman reported that he has driven straight trucks for 27 years, accumulating 27,000 miles, and tractor-trailer combinations for 25 years, accumulating 750,000 miles. He holds a Class A CDL from Ohio. His driving record for the last 3 years shows one crash, for which he was not cited and to which he did not contribute, and no convictions for moving violations in a CMV.

Daniel T. Brown

Mr. Brown, 48, has had amblyopia in his left eye since childhood. The visual acuity in his right eye is 20/20, and in his left eye, 20/60. Following an examination in 2015, his optometrist stated, “Overall, I think that Mr. Brown has very good visual function and life experience, which would allow him to operate a commercial vehicle safely, and efficiently.” Mr. Brown reported that he has driven straight trucks for 13 years, accumulating 780,000 miles. He holds a Class B CDL from Ohio. His driving record for the last 3 years shows no crashes and no convictions for moving violations in a CMV.

Samuel S. Byler

Mr. Byler, 53, has complete loss of vision in his left eye due to a traumatic incident in childhood. The visual acuity in his right eye is 20/20, and in his left eye, no light perception. Following an examination in 2015, his optometrist stated, “In my medical opinion with the use of side mirrors the patient should be able to operate a commercial vehicle.” Mr. Byler reported that he has driven straight trucks for 12 years, accumulating 360,000 miles, and tractor-trailer combinations for 8 years, accumulating 600,000 miles. He holds a Class A CDL from Pennsylvania. His driving record for the last 3 years shows no crashes and no convictions for moving violations in a CMV.

Robert Fawcett, Jr.

Mr. Fawcett, 65, has a retinal detachment in his right eye due to a traumatic incident in 1976. The visual acuity in his right eye is no light perception, and in his left eye, 20/20. Following an examination in 2015, his ophthalmologist stated, “Mr. Fawcett has sufficient vision in his left eye to operate a commercial vehicle.” Mr. Fawcett reported that he has driven straight trucks for 45 years, accumulating 270,000 miles, and tractor-trailer combinations for 45 years, accumulating 450,000 miles. He holds a Class AM CDL from Pennsylvania. His driving record for the last 3 years shows 1 crash, for which he was not cited and to which he did not contribute, and no convictions for moving violations in a CMV.

James T. Friesner, Jr.

Mr. Friesner, Jr., 47, has had optic nerve hypoplasia in his right eye since birth. The visual acuity in his right eye is counting fingers, and in his left eye, 20/20. Following an examination in 2015, his optometrist stated, “It is my medical opinion that Mr. Friesner has sufficient vision to perform the driving tasks required to operate a commercial vehicle.” Mr. Friesner reported that he has driven straight trucks for 7 years, accumulating 350,000 miles. He holds an operator's license from Ohio. His driving record for the last 3 years shows no crashes and no convictions for moving violations in a CMV.

Harry J. Glynn

Mr. Glynn, 56, has a corneal transplant and a lensectomy with IOL implant in his left eye due to a traumatic incident in 1984. The visual acuity in his right eye is 20/20, and in his left eye, 20/70. Following an examination in 2015, his optometrist stated, “Harry Glynn has sufficient vision to operate a commercial vehicle in my opinion.” Mr. Glynn reported that he has driven straight trucks for 40 years, accumulating 480,000 miles. He holds a chauffer's license from Louisiana. His driving record for the last 3 years shows no crashes and no convictions for moving violations in a CMV.

Jerry L. Gray

Mr. Gray, 51, has a prosthetic left eye due to a traumatic incident in 1995. The visual acuity in his right eye is 20/20, and in his left eye, no light perception. Following an examination in 2015, his optometrist stated, “It is my professional opinion that Mr. Gray can operate any vehicle safely.” Mr. Gray reported that he has driven straight trucks for 32 years, accumulating 1.6 million miles, and tractor-trailer combinations for 15 years, accumulating 375,000 miles. He holds a Class AMV CDL from Alabama. His driving record for the last 3 years shows no crashes and no convictions for moving violations in a CMV.

Lloyd Hinton

Mr. Hinton, 63, has had amblyopia in his left eye since childhood. The visual acuity in his right eye is 20/20, and in his left eye, 20/300. Following an examination in 2015, his optometrist stated, “In summary, I see no reason to restrict Mr. Hinton's license to drive a commercial vehicle for any eye or vision related cause.” Mr. Hinton reported that he has driven straight trucks for 24 years, accumulating 72,000 miles. He holds a Class BM CDL from New York. His driving record for the last 3 years shows no crashes and no convictions for moving violations in a CMV.

James M. Knef

Mr. Knef, 53, has had amblyopia in his right eye since childhood. The visual acuity in his right eye is 20/400, and in his left eye, 20/30. Following an examination in 2015, his optometrist stated, “Since this is a longstanding condition, it does not affect his ability to drive a commercial vehicle.” Mr. Knef reported that he has driven straight trucks for 28 years, accumulating 1.9 million miles. He holds a Class B CDL from New Jersey. His driving record for the last 3 years shows no crashes and no convictions for moving violations in a CMV.

Cody McDonnell

Mr. McDonnell, 24, has had amblyopia in his left eye since childhood. The visual acuity in his right eye is 20/20, and in his left eye, counting fingers. Following an examination in 2015, his optometrist stated, “In summary, in my opinion there is nothing vision or eye-related that should prevent Cody from obtaining his CDL and driving safely.” Mr. McDonnell reported that he has driven tractor-trailer combinations for 3 years. He holds a Class A CDL from Oregon. His driving record for the last 3 years shows no crashes and no convictions for moving violations in a CMV.

Brandon J. Michalko

Mr. Michalko, 25, has a macular hole in his left eye due to a traumatic incident in 2004. The visual acuity in his right eye is 20/20, and in his left eye, 20/200. Following an examination in 2015, his ophthalmologist stated, “In my medical opinion, I believe he does have sufficient vision to perform a driving test required to operate a commercial vehicle.” Mr. Michalko reported that he has driven straight trucks for 8 years, accumulating 416,000 miles. He holds a Class BM CDL from New York. His driving record for the last 3 years shows no crashes and no convictions for moving violations in a CMV.

John L. Ratayczak

Mr. Ratayczak, 50, has had amblyopia in his left eye since childhood. The visual acuity in his right eye is 20/20, and in his left eye, 20/70. Following an examination in 2015, his optometrist stated, “In my medical opinion, Mr. Ratayczak has sufficient vision in both eyes to operate a commercial vehicle he uses for his job.” Mr. Ratayczak reported that he has driven straight trucks for 15 years, accumulating 496,500 miles. He holds a Class D operator's license from Wisconsin. His driving record for the last 3 years shows no crashes and no convictions for moving violations in a CMV.

Dennis C. Rokes

Mr. Rokes, 51, has had macular degeneration in his left eye since 2012. The visual acuity in his right eye is 20/20, and in his left eye, 20/400. Following an examination in 2015, his optometrist stated, “In my medical opinion, Mr. Rokes has sufficient vision to perform the driving tasks required to operate a commercial vehicle.” Mr. Rokes reported that he has driven straight trucks for 33 years, accumulating 297,000 miles, and tractor-trailer combinations for 33 years, accumulating 132,000 miles. He holds a Class A CDL from Iowa. His driving record for the last 3 years shows no crashes and no convictions for moving violations in a CMV.

Brian W. Roughton

Mr. Roughton, 51, has had a retinal detachment in his left eye since birth. The visual acuity in his right eye is 20/20, and in his left eye, no light perception. Following an examination in 2015, his optometrist stated, “Again, Mr. Roughton has had this vision defect since birth and there are no new changes. I see no reason that it would affect his ability to continue driving or affect his DOT physical.” Mr. Roughton reported that he has driven straight trucks for 20 years, accumulating 160,000 miles, and tractor-trailer combinations for 20 years, accumulating 160,000 miles. He holds a Class A CDL from Missouri. His driving record for the last 3 years shows no crashes and no convictions for moving violations in a CMV.

Eric A. Simonsen

Mr. Simonsen, 53, has had corneal dystrophy in his right eye since childhood. The visual acuity in his right eye is 20/60, and in his left eye, 20/20. Following an examination in 2015, his ophthalmologist stated, “Patient sees well enough to drive a commercial vehicle.” Mr. Simonsen reported that he has driven straight trucks for 35 years, accumulating 1.23 million miles. He holds an operator's license from SC. His driving record for the last 3 years shows no crashes and no convictions for moving violations in a CMV.

Brian S. Tuttle

Mr. Tuttle, 43, has had refractive amblyopia in his right eye since childhood. The visual acuity in his right eye is 20/200, and in his left eye, 20/20. Following an examination in 2015, his optometrist stated, “I feel he does see well enough operate a commercial vehicle without glasses.” Mr. Tuttle reported that he has driven straight trucks for 15 years, accumulating 300,000 miles. He holds a Class DMB CDL from Kentucky. His driving record for the last 3 years shows no crashes and no convictions for moving violations in a CMV.

Steven A. Van Raalte

Mr. Van Raalte, 57, had a retinal detachment in his left eye in 1985. The visual acuity in his right eye is 20/20, and in his left eye, 20/80. Following an examination in 2015, his optometrist stated, “In my opinion, Mr. Van Raalte has sufficient vision to perform the driving tasks required to operate a commercial vehicle.” Mr. Van Raalte reported that he has driven straight trucks for 30 years, accumulating 57,000 miles, and tractor-trailer combinations for 30 years, accumulating 255,000 miles. He holds a Class A CDL from Illinois. His driving record for the last 3 years shows no crashes and no convictions for moving violations in a CMV.

Marvin L. Wernimont

Mr. Wernimont, 59, has had a prosthetic left eye since 1979. The visual acuity in his right eye is 20/20, and in his left eye, no light perception. Following an examination in 2015, his optometrist stated, “I certify that in my medical opinion, Marvin has sufficient vision to perform the driving tasks required to operate a commercial vehicle.” Mr. Wernimont reported that he has driven straight trucks for 17 years, accumulating 510,000 miles, and tractor-trailer combinations for 17 years, accumulating 425,000 miles. He holds a Class A CDL from Iowa. His driving record for the last 3 years shows one crash, for which he was not cited and to which he did not contribute, and no convictions for moving violations in a CMV.

Brian J. Yole

Mr. Yole, 45, has had amblyopia in his right eye since childhood. The visual acuity in his right eye is 20/60, and in his left eye, 20/20. Following an examination in 2015, his optometrist stated, “In my opinion, he has sufficient vision to perform the driving tasks required to operate a commercial vehicle.” Mr. Yole reported that he has driven tractor-trailer combinations for 9 years, accumulating 832,500 miles. He holds a Class AM CDL from Texas. His driving record for the last 3 years shows no crashes and 1 conviction for a moving violation in a CMV; he exceeded the speed limit by 6 mph.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0348 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0348 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: January 21, 2016.
Larry W. Minor,
Associate Administrator for Policy.

[FR Doc. 2016-02366 Filed 2-5-16; 8:45 am]

BILLING CODE 4910-EX-P